GENERAL SERVICES ADMINISTRATION

Public Building Services, Portfolio Management (9PT); Notice of Availability of Draft EIS

The United States General Services Administration has filed with the Environmental Protection Agency (EPA) and made available to other government and private bodies a Draft Environmental Impact Statement (DEIS) on the following project: U.S. Courthouse, Los Angeles, California.

The project will provide a total usable area of about 680,000 square feet, housing the United States District Courts and other court related agencies. Copies of the Draft EIS are available from: Javad Soltani, General Services Administration, Portfolio Management Division (9PT), 450 Golden Gate Avenue, San Francisco, California 94102, Tel: (415) 522-3493, FAX: (415) 522-3215, Email: javad.soltani@gsa.gov.

Council on Environmental Quality regulations provide for a 45-day review period, which begins with the date of the Federal Register notice of the availability of the Draft EIS. The date is March 26, 2001; comments are due to the GSA contact named above no later than May 4th, 2001.

Dated: March 26, 2001.
Javad Soltani,
Asset Manager, General Services Administration.

[FR Doc. 01-8743 Filed 4-9-01; 8:45 am]

BILLING CODE 6820-23-M